SOCIAL SECURITY ADMINISTRATION

Privacy Act of 1974 as Amended; Computer Matching Program (SSA/Department of Health and Human Services/Administration for Children and Families/Office of Child Support Enforcement (HHS/ACF/OCSE))—Match Number 1074

AGENCY: Social Security Administration (SSA).

ACTION: Notice of the renewal of an existing computer matching program which expired on June 18, 2006. The match is conducted on a quarterly basis. The next match is scheduled for September 2006.

SUMMARY: In accordance with the provisions of the Privacy Act, as amended, this notice announces a computer matching program that SSA plans to conduct with the HHS/ACF/OCSE.

DATES: SSA will file a report of the subject matching program with the Committee on Homeland Security and Governmental Affairs of the Senate, the Committee on Government Reform of the House of Representatives, and the Office of Information and Regulatory Affairs, Office of Management and Budget (OMB). The matching program will be effective as indicated below.

ADDRESSES: Interested parties may comment on this notice by either telefaxing to (410) 965-5328 or by writing to the Associate Commissioner, Office of Income Security Programs, 200 Altmeyer Building, 6401 Security Boulevard, Baltimore, MD 21235-6401. All comments received will be available for public inspection at this address.

FOR FURTHER INFORMATION CONTACT: The Associate Commissioner for the Office of Income Security Programs, as shown above.

SUPPLEMENTARY INFORMATION:

A. General

The Computer Matching and Privacy Protection Act of 1988 (Public Law 100-503), amended the Privacy Act (5 U.S.C. 552a) by establishing the conditions under which computer matching involving the Federal government could be performed and adding certain protections for individuals applying for, and receiving, Federal benefits. Section 7201 of the Omnibus Budget Reconciliation Act of 1990 (Public Law 101-508) further amended the Privacy Act regarding protections for such individuals.

The Privacy Act, as amended, regulates the use of computer matching by Federal agencies when records in a system of records are matched with other Federal, State, or local government records. It requires Federal agencies involved in computer matching programs to:

(1) Negotiate written agreements with the other agency, or agencies, participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act.

We have taken action to ensure that all of SSA's computer matching programs comply with the requirements of the Privacy Act, as amended.

Dated: August 4, 2006.
Martin H. Gerry,
Deputy Commissioner for Disability and Income Security Programs.

Notice of Computer Matching Program, Social Security Administration (SSA) with the Health and Human Services/Administration for Children and Families/Office of Child Support Enforcement (HHS/ACF/OCSE).

A. Participating Agencies

SSA and OCSE.

B. Purpose of the Matching Program

The matching program will assist SSA in establishing or verifying eligibility and/or payment amounts under the Supplemental Security Income (SSI) program, as authorized by the Social Security Act and by the Privacy Act. Under the matching program, SSA will obtain quarterly wage, new hire, and unemployment insurance information from OCSE.

C. Authority for Conducting the Matching Program

This matching program is carried out under the authority of section 453(j)(4), 1631(e)(1)(B) and (f) of the Social Security Act, 42 U.S.C., 653(j)(4) and 1383(e)(1)(B) and (f), and 5 U.S.C.552a(o),(p), (q) and (r).

D. Categories of Records and Individuals Covered by the Matching Program

On the basis of certain identifying information provided by SSA to OCSE, OCSE will send SSA electronic files containing quarterly wage, new hire and unemployment insurance information in National Directory of New Hires of its Federal Parent Locator Service system of records. SSA will then match the OCSE data with title XVI payment information maintained in Supplemental Security Income Record and Special Veterans Benefits system of records.

E. Inclusive Dates of the Match

The matching program will become effective no sooner than 40 days after notice for the program is sent to Congress and OMB, or 30 days after publication of this notice in the Federal Register, whichever date is later. The matching program will continue for 18 months from the effective date and may be extended for an additional 12 months thereafter, if certain conditions are met.

[FR Doc. E6-13029 Filed 8-9-06; 8:45 am]

BILLING CODE 4191-02-P